DEPARTMENT OF TRANSPORTATION

Federal Aviation Administration

14 CFR Part 39

[Docket No. 2001-NM-233-AD; Amendment 39-12785; AD 2002-12-13]

RIN 2120-AA64

Airworthiness Directives; Boeing Model 727 Series Airplanes

AGENCY: Federal Aviation Administration, DOT.

ACTION: Final rule; correction.

SUMMARY: This document corrects an inadvertent error that appeared in airworthiness directive (AD) 2002-12-13 that was published in the Federal Register on June 26, 2002 (67 FR 42985). The inadvertent error resulted in reference to an incorrect address for service information. This AD is applicable to all Boeing Model 727 series airplanes. This AD requires a review of maintenance records or a one-time test to determine if elevator hinge support ribs on the trailing edge of the horizontal stabilizer are made from a certain material, and follow-on repetitive inspections for corrosion or cracking of the elevator hinge support ribs, if necessary. For airplanes with the affected ribs installed, this AD eventually requires replacement of all affected ribs with new, improved ribs.

DATES: Effective July 31, 2002.

FOR FURTHER INFORMATION CONTACT: Technical Information: Duong Tran, Aerospace Engineer, Airframe Branch, ANM-120S, FAA, Seattle Aircraft Certification Office, 1601 Lind Avenue, SW., Renton, Washington 98055-4056; telephone (425) 227-2773; fax (425) 227-1181.

Other Information: Judy Golder, Airworthiness Directive Technical Editor/Writer; telephone (425) 687-4241, fax (425) 227-1232. Questions or comments may also be sent via the Internet using the following address: judy.golder@faa.gov. Questions or comments sent via the Internet as attached electronic files must be formatted in Microsoft Word 97 for Windows or ASCII text.

SUPPLEMENTARY INFORMATION: Airworthiness Directive (AD) 2002-12-13, amendment 39-12785, applicable to all Boeing Model 727 series airplanes, was published in the Federal Register on June 26, 2002 (67 FR 42985). That AD requires a review of maintenance records or a one-time test to determine if elevator hinge support ribs on the trailing edge of the horizontal stabilizer are made from a certain material, and follow-on repetitive inspections for corrosion or cracking of the elevator hinge support ribs, if necessary. For airplanes with the affected ribs installed, this AD eventually requires replacement of all affected ribs with new, improved ribs.

As published, paragraph (h) of that AD contained an incorrect address for obtaining copies of service information. Paragraph (h) of that AD identifies Airbus Industrie, 1 Rond Point Maurice Bellonte, 31707 Blagnac Cedex, France, as the appropriate address for obtaining copies of service information. However, the correct address is Boeing Commercial Airplane Group, P.O. Box 3707, Seattle, Washington 98124-2207.

Since no other part of the regulatory information has been changed, the final rule is not being republished in the Federal Register.

The effective date of this AD remains July 31, 2002.

§ 39.13 [Corrected]

On page 42989 of AD 2002-12-13, in the third column of paragraph (h) on the fourth line following the table, correct the sentence, “Copies may be obtained from Airbus Industrie, 1 Rond Point Maurice Bellonte, 31707 Blagnac Cedex, France,” to read “Copies may be obtained from Boeing Commercial Airplane Group, P.O. Box 3707, Seattle, Washington 98124-2207.”

Issued in Renton, Washington, on July 29, 2002.
Vi L. Lipski,
Manager, Transport Airplane Directorate, Aircraft Certification Service.

[FR Doc. 02-19880 Filed 8-6-02; 8:45 am]

BILLING CODE 4910-13-P